DEPARTMENT OF HEALTH AND HUMAN SERVICES

Substance Abuse and Mental Health Services Administration

Fiscal Year (FY) 2022 Notice of Supplemental Funding Opportunity

AGENCY: Substance Abuse and Mental Health Services Administration, HHS.

ACTION: Notice of intent to award supplemental funding.

SUMMARY: This is a notice of intent to award supplemental funding to the Addiction Technology Transfer Centers (ATTC) Regional Centers and ATTC National Coordinating Office (NCO) recipients funded in FY 2017 under Notice of Funding Opportunities (NOFO) TI-17-005. It will inform the public that the Substance Abuse and Mental Health Services Administration (SAMHSA) is supporting administrative supplements, which are consistent with the scope of the initial FY 2017 awards, of up to $740,298 each for one-year to the ten ATTC Regional Centers and ATTC NCO for a total funding amount of $8,143,285. These grant recipients were funded in FY 2017 under the ATTC Cooperative Agreements, funding announcement TI-17-005 and have a project end date of September 29, 2022. The supplemental funds will be used to extend the program services for all 11 ATTCs from September 30, 2022 to September 29, 2023. The proposed 12-month extension will allow SAMHSA to align the project periods of the ATTCs with those of the Mental Health Technology Transfer Centers (MHTTC) and Prevention Technology Transfer Centers (PTTC) networks so that all three networks can compete together for the next five-year funding cycle of the Technology Transfer Centers (TTC) program. The TTC program is comprised of the three network programs (ATTC, PTTC and MHTTC), which all use the same training and technical assistance platform. If the three networks are competed in different years and new organizations become award recipients of this cooperative agreement program, the structure of this common platform may be compromised. By competing them at the same time, if changes occur in award recipients, the new award recipients will be able to restructure the website and training platform within the first three months of the new funding cycle without disruptions.

SUPPLEMENTARY INFORMATION: Funding Opportunity Title: Addiction Technology Transfer Centers (ATTC) Cooperative Agreements NOFO TI-17-005.

Assistance Listing Number: 93.243

Authority: ATTC cooperative agreements are authorized under Section 509 of the Public Health Service Act, as amended.

Justification: Eligibility for this supplemental funding is limited to the ten ATTC Regional Centers and one NCO funded in FY 2017 under the ATTC Cooperative Agreements funding announcement TI-17-005, as they are currently providing regionally-focused treatment and recovery training activities that will continue to be funded through this supplement.

FOR FURTHER INFORMATION CONTACT: Twyla Adams, Substance Abuse and Mental Health Services Administration, 5600 Fishers Lane, Rockville, MD 20857, telephone (240) 276-1576; email: twyla.adams@samhsa.hhs.gov

Carlos Graham,
Reports Clearance Officer.

[FR Doc. 2022-13616 Filed 6-27-22; 8:45 am]

BILLING CODE 4162-20-P